ENVIRONMENTAL PROTECTION AGENCY

40 CFR Part 52

[EPA-R10-OAR-2010-0930, FRL9750-1]

Approval and Promulgation of Implementation Plans; State of Idaho; Regional Haze State Implementation Plan

AGENCY: Environmental Protection Agency (EPA).

ACTION: Final rule.

SUMMARY: EPA is taking final action to approve portions of a State Implementation Plan (SIP) revision submitted by the State of Idaho on October 25, 2010, as meeting the requirements of Clean Air Act (CAA or the Act) sections 169A and 169B and federal regional haze regulations. In a previous action on June 22, 2011, EPA approved portions of the October 25, 2010, SIP submittal as meeting the requirements for interstate transport for visibility of CAA section 110(a)(2)(D)(i)(II) and certain requirements of the regional haze rule, including the requirements for best available retrofit technology (BART). On May 22, 2012, EPA proposed to approve the remaining portion of the Regional Haze SIP submittal, including those portions that address CAA provisions that require states to set Reasonable Progress Goals (RPGs) for their Class I areas, and to develop a Long Term Strategy (LTS) to achieve these goals. In this Federal Register notice, EPA finalizes its approval of the remaining Regional Haze SIP elements as proposed in the May 22, 2012 notice.

DATES: This action is effective on December 10, 2012.

ADDRESSES: EPA has established a docket for this action under Docket Identification No. EPA-R10-OAR-2010-0930. All documents in the docket are listed on the http://www.regulations.gov Web site. Although listed in the index, some information may not be publicly available, i.e., Confidential Business Information or other information whose disclosure is restricted by statute. Certain other material, such as copyrighted material, is not placed on the Internet and will be publicly available only in hard copy form. Publicly available docket materials are available either electronically through http://www.regulations.gov or in hard copy at EPA Region 10, Office of Air, Waste, and Toxics, AWT-107, 1200 Sixth Avenue, Seattle, Washington 98101. EPA requests that you contact the person listed in the FOR FURTHER INFORMATION CONTACT section to schedule your inspection. The Regional Office's official hours of business are Monday through Friday, 8:30 to 4:30, excluding Federal holidays.

FOR FURTHER INFORMATION CONTACT: Steve Body at telephone number (206) 553-0782, Body.Steve@epa.gov, or the above EPA Region 10 address.

SUPPLEMENTARY INFORMATION: Throughout this document whenever “we,” “us,” or “our” is used, we mean EPA. Information is organized as follows:

Table of Contents

I. Background

II. Response to Comments

III. Final Action

IV. Scope of Action

V. Statutory and Executive Order Review

I. Background

In the CAA Amendments of 1977, Congress established a program to protect and improve visibility in national parks and wilderness areas. See CAA section 169A. Congress amended the visibility provisions in the CAA in 1990 to focus attention on the problem of regional haze. See CAA section 169B. EPA promulgated regulations in 1999 to implement sections 169A and 169B of the Act. These regulations require states to develop and implement plans to ensure reasonable progress toward improving visibility in mandatory Class I Federal areas ¹ (Class I areas). 64 FR 35714 (July 1, 1999); see also 70 FR 39104 (July 6, 2005).

¹ Areas designated as mandatory Class I Federal areas consist of national parks exceeding 6000 acres, wilderness areas and national memorial parks exceeding 5000 acres, and all international parks that were in existence on August 7, 1977. 42 U.S.C. 7472(a). In accordance with section 169A of the CAA, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area” in this action, we mean a “mandatory Class I Federal area.”

On behalf of the State of Idaho, the Idaho Department of Environmental Quality (IDEQ) submitted its Regional Haze State Implementation Plan (Regional Haze SIP submission or SIP submittal) to EPA on October 25, 2010. In a previous action EPA approved certain provisions in Idaho's Regional Haze SIP submission, 76 FR 36329, June 22, 2011. Specifically, the previous action approved the BART provisions (40 CFR 51.308(e)), the calculation of baseline and natural conditions (40 CFR 51.308(d)(2)), and the statewide emission inventory of pollutants that are reasonably anticipated to cause or contribute to visibility impairment in any mandatory Class I area.² In that same action, EPA also approved portions of the October 25, 2010 SIP submittal as meeting the requirements for interstate transport for visibility of CAA section 110(a)(2)(D)(i)(II) with respect to the visibility prong for the 1997 8-hour ozone and 1997 PM2.5 National Ambient Air Quality Standards (NAAQS).

² Upon EPA's final action, The Amalgamated Sugar Company (TASCO) filed a petition for review in the Ninth Circuit Court of Appeals challenging EPA's approval of Idaho's BART determination for TASCO. See Amalgamated Sugar v. EPA, No. 11-72445 (9th Cir.). The case is pending before the Ninth Circuit.

On May 22, 2012, EPA proposed to approve the remaining provisions of Idaho's Regional Haze SIP submission, including the regional haze requirements for establishing RPGs and the LTS, see 77 FR 30248. The public comment period for this proposed rule ended on June 21, 2012.

II. Response to Comments

EPA received five comments on the May 22, 2012, proposed action to approve portions of the Idaho Regional Haze SIP submittal. Responses to issues raised in these comment letters are discussed in this section.

A. Correction of Ownership for Clearwater Paper

Comment: One comment requested a correction of ownership of one of Idaho's regulated facilities, the Clearwater Paper Corporation.

Response: EPA agrees with this request and acknowledges that the pulp mill in Lewiston, Idaho, previously referred to as the Potlatch Pulp and Paper Mill is owned by the Clearwater Paper Corporation.

B. Approach to Identifying Stationary Source Controls To Meet the Reasonable Progress Requirements of the Regional Haze Rule

Comment: Four commenters, the National Park Service (NPS), Safe Air for Everyone (SAFE), Save Our Summers NW (SOS NW), and the Shoshone-Bannock Tribes Air Quality Department, expressed concerns over Idaho's reasonable progress analysis for stationary sources.

The NPS indicated that the Idaho plan did appropriately identify the major source categories to evaluate for controls under reasonable progress, but noted however, that Idaho did not properly consider what emission controls might be reasonable to implement for specific sources within those categories to “assure reasonable progress towards meeting the national goal of preventing future and remedying any existing impairment of visibility in mandatory Class I federal areas.” The NPS recommended that Idaho reconsider the decision that no controls are reasonable for sources under the reasonable progress requirements. The commenter noted further that Idaho did not consider controls for stationary sources of sulfur dioxide (SO2). The NPS pointed out that EPA determined that several of the Idaho stationary sources have visibility impacts between 0.3-1.3 deciviews (dv) and urged EPA and the State to evaluate specific control measures for these sources. The NPS expressed specific concerns regarding J.R. Simplot, a phosphate fertilizer manufacturing facility which is 86 km from Craters of the Moon National Monument and has 1,609 tons per year (tpy) of SO2 emissions.

SAFE, whose comments were endorsed by SOS NW, asserts that it is not reasonable for Idaho to submit a SIP that provides no additional controls for reasonable progress given that none of Idaho's Class I areas are projected to meet the uniform rate of progress by 2064. This commenter further indicates that the State should adopt low-cost controls on stationary sources that could produce additional progress.

The Shoshone-Bannock Tribes Air Quality Department commented that Idaho needs to demonstrate that it is making reasonable progress within the State, especially with respect to non-BART sources in eastern Idaho. The comment adds that the SIP submittal was not detailed enough to report emissions of haze pollutants from BART and non-BART units for three plants: The J.R. Simplot Don Plant, Nu West/Agrium, and P4 Production LLC (formerly Monsanto) and that EPA should require a fast track revision to the SIP submittal which includes the necessary additional details in a four-factor analysis.

For J.R. Simplot, the Shoshone-Bannock Tribes Air Quality Department further notes that the Western Regional Air Partnership (WRAP) identified 31 separate emission units within the plant and that the most significant sources of visibility impairing pollutants were non-BART emission units. This comment adds that the plant has operated with few process changes over the years and has been well characterized and permitted by IDEQ, and that the State should have carried out the four-factor reasonable progress analysis as required by the CAA. The commenter noted that the 2007 Toxic Release Inventory shows that the facility emitted 4 tons per day of SO2, and that in view of the potential significance of these emissions to visibility at Craters of the Moon National Monument, and Teton and Yellowstone National Parks, the SIP submittal should have included detailed emission sources at the J.R. Simplot plant, potential control technologies, and regulatory plans to limit these non-BART emissions.

The Shoshone-Bannock Tribes Air Quality Department was also critical of IDEQ's claim that an additional five years (i.e., two years for modeling and 3 years to install emission controls) was needed for a thorough four-factor analysis for the J.R. Simplot facility and other large stationary sources, particularly in light of the tardiness of the SIP submittal. The commenter points out that the delay in providing a four-factor analysis is erroneous underscored by the fact that the J.R. Simplot facility recently applied for a construction permit to make improvements at one of the sulfuric acid units at the plant and indicated that only one year was necessary for installing an improved scrubber. Given the projected five-year delay for the analysis plus installation of controls and that the SIP submittal was three years past the deadline, the commenter believes that the deferral is unreasonable and that EPA should require the State to complete the reasonable progress analyses on a realistic schedule and not approve the existing submittal. Finally the commenter offers that the State, by requesting an unreasonable timetable for compliance and projecting the five-year delay, is establishing the possibility that J.R. Simplot and other sources may not be ready for emission reductions even in time for the five year review period (i.e., the five-year progress report). The comment calls for EPA to review this issue and require IDEQ to revise the SIP accordingly.

Response: EPA has conducted a screening analysis to verify that the Idaho plan contains appropriate reasonable progress provisions for stationary sources.

EPA agrees with commenters that as part of its reasonable progress analysis, the State did not thoroughly assess controls for specific sources after having identified cost-effective options for certain source categories. The Idaho SIP submittal, however, concluded that additional controls on stationary sources of SO2 or oxides of nitrogen (NOX) would not be helpful in achieving the uniform rate of progress (URP). Because the Idaho SIP submittal did not contain sufficient analysis to support this conclusion, EPA conducted its own independent screening analysis.

As explained in the notice of proposed rulemaking for this action, as part of our review of the Idaho Regional Haze SIP submittal, EPA independently evaluated whether additional control measures were reasonable for non-BART stationary sources located within Idaho's regulatory jurisdiction that would achieve further progress toward the national goal. See 77 FR 30255. In our evaluation, we used a screening methodology referred to as “Q/d.” We used the CALPUFF modeling results from a number of BART-eligible sources in combination with the ratio of each of these source's emissions (denoted by the variable Q) divided by the source's distance, in kilometers, from the nearest Class I area (denoted by the variable d). See the memorandum with subject “Q/d Analysis of BART Sources in Idaho, Oregon and Washington to Establish a Threshold for Estimating Visibility Impacts from non-BART Sources” from Keith Rose, EPA Region 10, dated March 21, 2012, which can be found in the docket for this action. Based on the CALPUFF modeling results, we concluded that the BART-eligible sources having a Q/d ratio less than 20 would not make a significant contribution to visibility impairment in any Class I area. Likewise, we then assumed that the non-BART sources in Idaho having a Q/d ratio less than 20 would not significantly impair visibility in the Class I areas in Idaho. We calculated the Q/d ratio for all non-BART stationary sources emitting more than 40 tpy of SO2, NOX, or PM10. The 40 tpy threshold is consistent with the de minimis level of exemption for the BART determination. As discussed in the proposal, our analysis demonstrated that all 17 of the non-BART stationary sources above 40 tpy in Idaho have a baseline Q/d less than 17. Thus, we agreed with Idaho's conclusion that no additional controls on non-BART stationary sources in Idaho are reasonable for this planning period, because any visibility improvement expected from additional controls would likely be minimal. We are not changing that conclusion in this final action.

Regarding the NPS and Shoshone-Bannock Tribes Air Quality Department comments about assessing SO2 controls for J.R. Simplot, we agree that the State did not consider SO2 controls under reasonable progress with a four-factor analysis specific to this facility. The majority of the SO2 emissions from the facility are emitted from the #300 and #400 sulfuric acid plants, which are not BART-eligible sources. A total of over 1,600 tons of SO2 was emitted from these two units in 2011. In terms of assessing these units under reasonable progress, we note that they are currently controlled and are regulated under the New Source Performance Standards for sulfuric acid plants at a rate of 4 pounds of SO2 per ton of sulfuric acid produced. (see 40 CFR 60.2). Further, in May 2012, J.R. Simplot and the State entered a Consent Order to reduce emissions at the #400 plant to less than 2 pounds of SO2 per ton of sulfuric acid produced. (See J.R. Simplot Company—Don Siding Plant Consent Order—Case No. E-2012.0006 2012AAI287.) The requirement to meet this emission limit became effective September 1, 2012. The Consent Order also requires a Best Available Control Technology (BACT) analysis to be completed for the #400 plant by June 1, 2013. In its SIP submittal, the State did not account for the SO2 reductions resulting from the Consent Order when it established the RPGs for the Class I areas in Idaho. As part of its interim progress report for regional haze due in October 2015, the State may choose to provide details of the SO2 reductions resulting from this Consent Order and any corresponding improvements to visibility. In addition to the reasons explained in the proposal, because of the existing controls on the sulfuric acid units and the additional SO2 reductions and visibility improvement expected to result from the May 2012, Consent Order, we agree with Idaho's conclusion that no additional SO2 controls for the purposes of meeting the reasonable progress requirements of the regional haze rule are warranted at the J.R. Simplot facility during this planning period. EPA's Q/d analysis supports this conclusion, and EPA notes that taking into account the requirements of the Consent Order, the Simplot facility has a Q/d of less than 20.

With regard to the Nu West/Agrium facility, we disagree with the commenter that not enough detail about the BART and non-BART units is provided in the SIP submittal. IDEQ appropriately determined that the facility is BART-eligible. SO2 is the largest emitted pollutant (See Table 10-2 in the Idaho SIP submittal which lists SO2 emissions at 945 tpy). Modeled visibility impacts for this facility were minimal and the facility was exempt from further BART review (See 76 FR 36334). Emissions from the non-BART units are relatively small and the visibility impact is expected to be very minor as the Q/d ratio for the facility is less than 8. Also, contrary to the comment, the BART determination for Monsanto/P4 Production LLC was discussed thoroughly in Chapter 10 of the Idaho SIP submission and addressed in EPA's final action for BART, dated June 22, 2011 (See 76 FR 36329). Controls installed for BART at P4 are expected to achieve approximately 9,000 tpy of sulfur oxide reductions at the kiln. Among the non-BART units at P4, the largest emitting sources of visibility impairing pollutants are two furnaces, and the State reasonably concluded that additional controls on these furnaces are not technically feasible due to the very high process temperatures.

C. Comments Related to Crop Residue Burning

Comment: Three commenters, SAFE, SOS NW, and the Shoshone-Bannock Tribes Air Quality Department, expressed concerns over Idaho's reasonable progress analysis for assessing additional controls on crop residue burning.³

³ The agricultural/crop residue burning of concern to the commenter is included in the SIP under the broader category of “Anthropogenic fire”.

The comment submitted by SAFE, and endorsed by SOS NW, indicates that stronger controls on field burning are reasonable and cost-effective and can achieve some additional progress. SOS NW emphasizes that crop residue burning should not be left out of consideration when it comes to the regional haze plan. The comment from SAFE claims that Idaho's rationale for doing nothing seems to be that wildfires are responsible for most of the visibility problem at Class I areas in the State. SAFE offers additional details on agricultural burning, noting that the SIP submittal estimates a 54% reduction in fine particulate matter (PM2.5) emissions from anthropogenic fires by 2018, compared to 2002 data.⁴ However, the commenter points out that between 2002 to the present, there has been a 48% increase in agricultural acres burned in Idaho, particularly in the southern areas which are closer to the Class I areas of concern. The commenter also states that it makes good sense to ramp down the emissions from agricultural field burns in those areas to offer the best chance of meeting the Regional Haze goals. The commenter letter from the Shoshone-Bannock Tribes Air Quality Department indicates that the recent increase in acreage burned resulted in emissions that were not recognized in the regional haze SIP submission nor reviewed adequately for visibility impacts.

⁴ See Table 8-6 in the Idaho SIP submittal. The emissions inventory, which is used for modeling purposes and categorizes primary and secondarily formed particles separately, was obtained from the WRAP technical Support System at: http://vista.cira.colostate.edu/TSS/Results/Emissions.aspx.

SAFE also points out that current Idaho regulation limits burn approvals to days when air quality levels are below 75% of any NAAQS. SAFE further noted that the IDEQ recently considered lifting the 75% of NAAQS limit for ozone, and that SAFE is therefore concerned that this would increase the amount of agricultural burning. To ensure the 75% of NAAQS limit remains effective in Idaho and as one way to limit the growth of agricultural burning from contributing to the deterioration of visibility in Class I areas, SAFE requests that EPA establish the limit as a federally enforceable limit in the Regional Haze SIP. The comment states that the long term strategy must contain enforceable emission limits, compliance schedules, and other measures as necessary to achieve the reasonable progress goals. The Shoshone-Bannock Tribes Air Quality Department adds that the strategy of permitting crop residue burns and other prescribed burns is to disperse the smoke by the prevailing winds, and although this reduces downwind concentrations, it increases haze on a regional scale and increases visibility impacts in downwind Class I areas, particularly in the fall when field burning is scheduled. The commenter asserts that the permit program for crop residue burning is allowing burning to increase with the new “Crop Residue Burning” section of IDEQ's rules, and is largely a registration program rather than a program with tools to monitor Class I impacts or safeguard Class I air sheds. The commenter indicates that the resulting haze from burning should be reviewed, modeled for impacts, and included in the long term strategy.

SAFE also commented that Idaho contributes significantly to visibility impairment in Montana and Wyoming Class I areas and that Yellowstone National Park, Bridger Wilderness, and Glacier National Park are all significantly off the target of achieving natural conditions by 2064. Referencing 40 CFR 51.308(d)(3)(ii), the comment contends that Idaho cannot demonstrate that it has included all measures necessary to improve visibility in these areas unless it places limits on field burning. Finally, the comment notes that there should be acreage restrictions on burning, and that there would be no special equipment to purchase and no hindrance to growing crops by using alternative methods to burning.

Response: Regarding the comment on the amount of acreage burned, we acknowledge that the reported data does indicate an increase in acreage burned as the commenters point out. However, the likelihood that there has been an increase in acreage burned is attenuated by the fact the registration program has greatly reduced the amount of fires that go unreported. There is considerable uncertainty in comparing the present acreage reported with acreage estimates from 2002. Over time, trends in the data will become more reliable with improved data quality. In addition, we note that Idaho is relying, in part, on the visibility improvement expected due to reduced emission from anthropogenic fires in its SIP. As part of IDEQ's obligation to submit a periodic progress report (see 40 CFR 51.308(g)), it will be incumbent upon the State to accurately assess any significant changes in emissions from anthropogenic fire, including agricultural burning and acreage burned. At that time, IDEQ can assess whether any additional measures are necessary for ensuring that the relevant reasonable progress goals will be met.

In response to comments concerning the State's claim that wildfire is responsible for most of the visibility problem and that the State should do more to control field burning, we note that the emissions from natural fire (i.e. wildfires) are indeed significantly greater than from anthropogenic fire, as shown in the emission inventory of the SIP submittal. Visibility impairment from fire of any type is primarily due to emissions of organic carbon and elemental carbon, and to a lesser extent, direct fine particulate emissions. As shown in Tables 8-4 through 8-6 in the SIP submittal, emissions from natural fires of all three of these pollutant constituents are from three to ten times greater than anthropogenic fires. For example, the State is projecting about 48,000 tons of organic carbon emissions in 2018 from natural fires compared to 4,100 tons from anthropogenic fires. With regard to visibility impairment from fires, the graphs in Chapter 9 of the SIP submittal show that the overwhelming amount of visibility impairment due to fire on the 20% worst days at Idaho's Class I areas is from natural fire. As shown in Figure 9-9, nearly 70% of the organic carbon on the 20% worst days at Craters of the Moon comes from natural fire while less than 7% comes from anthropogenic fire. Anthropogenic burning makes up such a small portion of the total statewide emissions inventory that the predicted visibility improvement attributable to reductions in agricultural burning emissions is very minor. A reduction in agricultural burning emissions would be expected to have only a minimal overall influence on the glide slopes (i.e., rates of progress) for the State's Class I areas when compared to the dominating influence of natural fire and other sources. The dominant influence of natural fire on visibility can be compounded by the significant year to year variability of natural fire emissions which can easily offset any visibility improvement from reductions in anthropogenic fire. Additional constraints on anthropogenic burning, such as acreage restrictions or alternative burning techniques would therefore not necessarily lead to more progress than that expected from the greater than 50% reductions in PM2.5, elemental carbon, and organic carbon emissions that the State is projecting. Consequently, we disagree that the state must do more to control field burning to ensure reasonable progress during this first planning period.

With regard to the comment concerning Idaho's contributions to visibility impairment at Class I areas in Montana and Wyoming and the need to further control crop residue burning, we note that Idaho appropriately satisfied the interstate consultation requirements of Section 51.308(d)(3)(i) of the Regional Haze Rule and collaborated extensively with Montana, Wyoming, and the EPA via numerous Western Regional Air Program (WRAP) forums. See Chapter 2 of the Idaho SIP submittal. Both Idaho and neighboring states agreed that the implementation of BART and other existing measures in state regional haze plans were sufficient, and that future consultation would address any new strategies or measures needed. Source apportionment modeling does show that Idaho contributes significant emissions of primary organic aerosol to the Class I areas in Montana and Wyoming. However, the majority of these emissions are due to natural fire and not anthropogenic fire. As shown in Figure 9-84 of the SIP submittal, anthropogenic burning in Idaho has the greatest impact in the Cabinet Mountain Wilderness Area in Montana, but even though Idaho contributes about 38% of the total primary organic aerosol at Cabinet Mountain Wilderness Area, of that, just 9% is from anthropogenic burning. (Most of the remaining primary organic aerosol emissions are from natural fire). Further, the 9% attributable to anthropogenic burning is projected to decrease to less than 5% in 2018. Also it is important to note that neither Montana nor Wyoming requested that Idaho reduce emissions when setting their reasonable progress goals. Contrary to what the commenter states, we believe Idaho is achieving its share of visibility progress at Class I areas in Montana and Wyoming.

Finally, the requirement prohibiting field burning when air quality is above 75% of any NAAQS is already a federally enforceable SIP measure. See 73 FR 44915 (August 1, 2008) (Final action approving Idaho's Revised Crop residue Disposal rules which included the 75% of NAAQS limit).Thus, adding the 75% limit to the Regional Haze SIP would provide no additional authority to regulate burning. Additionally, as described briefly in the Regional Haze SIP submittal Section 12.65 regarding the Long Term Strategy, crop residue burning is regulated with a permit-by-rule process which EPA has previously approved in the SIP. Id.

D. Consultation

Comment: The Shoshone-Bannock Tribes Air Quality Department expressed concerns that the Idaho SIP submittal did not provide enough detail of Wyoming's comments and consultation nor resolve the comments submitted by the federal land managers (FLMs).

Response: EPA disagrees with these comments regarding consultation. EPA's review of Idaho's SIP submittal indicates that Idaho conducted and documented the required consultation with States and FLMs. Appendix I of the Idaho Regional Haze SIP submission includes Idaho's responses to the FLM comments.

III. Final Action

EPA is approving the remaining portions of the Idaho Regional Haze SIP submission of October 25, 2010, as meeting the requirements set forth in section 169A and 169B of the Act and in 40 CFR 51.308 for preventing any future and remedying any existing visibility impairment in mandatory Class I areas caused by emissions of air pollutants from numerous sources located over a wide geographical area. Specifically included is EPA's approval of the reasonable progress provisions and the long term strategies.

IV. Scope of Action

Idaho has not demonstrated authority to implement and enforce IDAPA chapter 58 within “Indian Country” as defined in 18 U.S.C. 1151.⁵ Therefore, EPA is not extending this SIP approval to “Indian Country” in Idaho. See CAA sections 110(a)(2)(A) (SIP shall include enforceable emission limits), 110(a)(2)(E)(i) (State must have adequate authority under State law to carry out SIP), and 172(c)(6) (nonattainment SIPs shall include enforceable emission limits). This is consistent with EPA's previous approval of Idaho's prevention of significant deterioration (PSD) program, in which EPA specifically disapproved the program for sources within Indian Reservations in Idaho because the State had not shown it had authority to regulate such sources. See 40 CFR 52.683(b). See 40 CFR 52.683(b). It is also consistent with EPA's approval of Idaho's title V air operating permits program. See 61 FR 64622, 64623 (December 6, 1996) (interim approval does not extend to Indian Country); 66 FR 50574, 50575 (October 4, 2001) (full approval does not extend to Indian Country).

⁵ “Indian country” is defined under 18 U.S.C. 1151 as: (1) All land within the limits of any Indian reservation under the jurisdiction of the United States Government, notwithstanding the issuance of any patent, and including rights-of-way running through the reservation, (2) all dependent Indian communities within the borders of the United States, whether within the original or subsequently acquired territory thereof, and whether within or without the limits of a State, and (3) all Indian allotments, the Indian titles to which have not been extinguished, including rights-of-way running through the same. Under this definition, EPA treats as reservations trust lands validly set aside for the use of a Tribe even if the trust lands have not been formally designated as a reservation. In Idaho, Indian country includes, but is not limited to, the Coeur d'Alene Reservation, the Duck Valley Reservation, the Reservation of the Kootenai Tribe, the Fort Hall Indian Reservation, and the Nez Perce Reservation as described in the 1863 Nez Perce Treaty.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because this action does not involve technical standards; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian Country located in the State, and EPA notes that it will not impose substantial direct costs on tribal governments or preempt tribal law. Consistent with EPA policy, EPA nonetheless provided a consultation opportunity to Tribes in Idaho, Oregon, and Washington in letters dated January 14, 2011. EPA received one request for consultation, and we have followed up with that Tribe.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 7, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2))

List of Subjects in 40 CFR Part 52

Environmental protection, Air pollution control, Incorporation by reference, Intergovernmental relations, Nitrogen dioxide, Particulate matter, Reporting and recordkeeping requirements, Sulfur oxides, Visibility, and Volatile organic compounds.

Dated: October 24, 2012.
Dennis J. McLerran,
Regional Administrator, Region 10.

Part 52, chapter I, title 40 of the Code of Federal Regulations is amended as follows:

PART 52—[AMENDED]

1. The authority citation for part 52 continues to read as follows:

Authority: 42 U.S.C. 7401 et seq.

Subpart N—Idaho

2. Section 52.670 is amended in paragraph (e) by adding an entry to the end of the table to read as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Regional Haze SIP Revision | State-wide | 10/25/10 | 11/8/12 [Insert page number where the document begins] | The remaining portion of the regional haze SIP elements as proposed in the May 22, 2012 notice. 77 FR 30248.

3. Section 52.672 is amended by adding paragraph (g)(2) to read as follows:

§ 52.672 Approval of plans.

* * * * *

(g) * * *

(2) EPA approves the remaining portions of the Regional Haze SIP revision submitted by the Idaho Department of Environmental Quality on October 25, 2010, as meeting the requirements of the Clean Air Act section 169A and 169B and 40 CFR 51.308.

[FR Doc. 2012-27216 Filed 11-7-12; 8:45 am]

BILLING CODE 6560-50-P